COMMODITY FUTURES TRADING COMMISSION

Sunshine Act Meetings

TIME AND DATE: 9:30 a.m., Tuesday, November 5, 2013.

PLACE: CFTC Headquarters Conference Center, Three Lafayette Centre, 1155 21st St. NW., Washington, DC.

STATUS: Open.

MATTERS TO BE CONSIDERED: The Commission has scheduled this meeting to consider various rulemaking matters, including the issuance of several proposed rules. The agenda for this meeting is available to the public and posted on the Commission's Web site at http://www.cftc.gov. In the event that the time, date, or place of the meeting changes, an announcement of the change, along with the new time, date, or place of the meeting, will be posted on the Commission's Web site.

CONTACT PERSON FOR MORE INFORMATION: Melissa D. Jurgens, Secretary of the Commission, 202-418-5516.

Melissa D. Jurgens,
Secretary of the Commission.

[FR Doc. 2013-25410 Filed 10-24-13; 11:15 am]

BILLING CODE 6351-01-P